DEPARTMENT OF LABOR

Office of Federal Contract Compliance Programs

41 CFR Part 60-1

RIN 1250-AA03

Government Contractors: Requirement To Report Summary Data on Employee Compensation; Correction

AGENCY: Office of Federal Contract Compliance Programs, Labor.

ACTION: Proposed rule; correction.

SUMMARY: The Department of Labor, Office of Federal Contract Compliance Programs, published a document in the Federal Register on August 8, 2014, seeking comments on its notice of proposed rulemaking (NPRM) regarding reporting summary data on employee compensation. This document corrects errors in that document.

FOR FURTHER INFORMATION CONTACT: Debra Carr, (202) 693-0103 (voice) or (202) 693-1337 (TTY).

Correction

In proposed rule FR Doc 2014-18557, beginning on page 46562, in the issue of August 8, 2014, make the following corrections:

This NPRM is OMB control number 1250-AA03.

Under the heading, “Public Comment,” in column 1 on page 46604, the Uniform Resource Locator (URL) for finding the information collection request (ICR) on RegInfo.gov “. . . http://www.reginfo.gov/public/do/PRAViewICR?ref_nbr=[INSERTICRREFERENCENUMBER],” is corrected to read “. . . http://www.reginfo.gov/public/do/PRAViewICR?ref_nbr=201407-1250-001.” While the original link routed the reader to OMB's Office of Information and Regulatory Affairs (OIRA) conclusion page, the revised link will take the reader to a specific OIRA page for the ICR referenced in the NPRM.

Additionally, in column 1 on page 46604, the incorrect number of days for comments on the ICR directed to the Department “. . . within 30 days of the publication of this notice,” is corrected to read, “. . . within 90 days of the publication of this notice.”

Dated: August 14, 2014.
Debra A. Carr,
Director, Division of Policy and Program Development, Office of Federal Contract Compliance Programs.

[FR Doc. 2014-19760 Filed 8-19-14; 8:45 am]

BILLING CODE 4510-45-P